DEPARTMENT OF HEALTH AND HUMAN SERVICES

National Institutes of Health

National Cancer Institute; Amended Notice of Meeting

Notice is hereby given of a change in the meeting of the National Cancer Institute Special Emphasis Panel, June 22, 2009, 8 a.m. to June 23, 2009, 6 p.m., Bethesda Marriott, 5151 Pooks Hill Road, Bethesda, MD, 20814 which was published in the Federal Register on March 31, 2009, 74 FR 6014571.

This notice is amended to change this meeting from a two day to a one day meeting ending June 22, 2009 at 6 p.m. The meeting is closed to the public.

Dated: June 4, 2009.
Jennifer Spaeth,
Director, Office of Federal Advisory Committee Policy.

[FR Doc. E9-13680 Filed 6-10-09; 8:45 am]

BILLING CODE 4140-01-P